DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Bradley T. Smith, Acting Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

A. On November 18, 2021, OFAC determined that the property and interests in property subject to U.S. jurisdiction of the following persons are blocked under the relevant sanctions authority listed below.

Individuals

1. KASHIAN, Sajjad (a.k.a. “NABAVI, Kiarash”), Iran; DOB 17 Sep 1994; nationality Iran; Gender Male; National ID No. 4560134669 (Iran) (individual) [ELECTION-EO13848].

Designated pursuant to section 2(a)(i) of Executive Order 13848 of September 12, 2018, “Imposing Certain Sanctions in the Event of Foreign Interference in a United States Election,” (E.O. 13848), 83 FR 46843, for having directly or indirectly engaged in, sponsored, concealed, or otherwise been complicit in foreign interference in a United States election.

2. KAZEMI, Seyyed Mohammad Hosein Musa (a.k.a. “ZAMANI, Hosein”), Iran; DOB 18 Jun 1997; nationality Iran; Gender Male; National ID No. 0020372604 (Iran) (individual) [ELECTION-EO13848].

Designated pursuant to section 2(a)(i) of E.O. 13848 for having directly or indirectly engaged in, sponsored, concealed, or otherwise been complicit in foreign interference in a United States election.

3. NODEH, Hosein Akbari, Iran; DOB 27 Dec 1980; nationality Iran; Gender Male; National ID No. 0062245260 (Iran) (individual) [ELECTION-EO13848] (Linked To: EMENNET PASARGAD).

Designated pursuant to section 2(a)(iii) of E.O. 13848 for being owned or controlled by, or having acted or purported to act for or on behalf of, directly or indirectly, EMENNET PASARGAD, a person whose property and interests in property are blocked pursuant to E.O. 13848.

4. SARMADI, Mostafa, Iran; DOB 22 Aug 1987; nationality Iran; Gender Male; National ID No. 0082389985 (Iran) (individual) [ELECTION-EO13848] (Linked To: EMENNET PASARGAD).

Designated pursuant to section 2(a)(iii) of E.O. 13848 for being owned or controlled by, or having acted or purported to act for or on behalf of, directly or indirectly, EMENNET PASARGAD, a person whose property and interests in property are blocked pursuant to E.O. 13848.

5. SHIRINKAR, Mohammad Bagher (a.k.a. TEHRANI, Mojtaba), Iran; DOB 21 Sep 1979; nationality Iran; Additional Sanctions Information—Subject to Secondary Sanctions; Gender Male; National ID No. 0067948431 (Iran) (individual) [HRIT-IR] [ELECTION-EO13848] (Linked To: ISLAMIC REVOLUTIONARY GUARD CORPS ELECTRONIC WARFARE AND CYBER DEFENSE ORGANIZATION).

Designated pursuant to section 2(a)(i) of E.O. 13848 for having directly or indirectly engaged in, sponsored, concealed, or otherwise been complicit in foreign interference in a United States election.

6. TOGHROLJERDI, Seyyed Mehdi Hashemi (a.k.a. “HASHEMI, Seyyed Mehdi”), Iran; DOB 19 Apr 1973; POB Iran; nationality Iran; Gender Male; National ID No. 3091111628 (Iran) (individual) [ELECTION-EO13848] (Linked To: EMENNET PASARGAD).

Designated pursuant to section 2(a)(iii) of E.O. 13848 for being owned or controlled by, or having acted or purported to act for or on behalf of, directly or indirectly, EMENNET PASARGAD, a person whose property and interests in property are blocked pursuant to E.O. 13848.

Entity

1. EMENNET PASARGAD (a.k.a. IMANNET PASARGAD), Tehran, Iran; National ID No. 14008996506 (Iran); Business Registration Number 554267 (Iran) [ELECTION-EO13848].

Designated pursuant to section 2(a)(i) of E.O. 13848 for having directly or indirectly engaged in, sponsored, concealed, or otherwise been complicit in foreign interference in a United States election.

Dated: November 18, 2021.
Bradley T. Smith,
Acting Director, Office of Foreign Assets Control, U.S. Department of the Treasury.

[FR Doc. 2021-25598 Filed 11-22-21; 8:45 am]

BILLING CODE 4810-AL-P